ENVIRONMENTAL PROTECTION AGENCY

40 CFR Part 721

[EPA-HQ-OPPT-2012-0842; FRL-9382-2]

RIN 2070-AB27

Significant New Use Rules on Certain Chemical Substances; Technical Amendment

AGENCY: Environmental Protection Agency (EPA).

ACTION: Final rule; technical amendment.

SUMMARY: EPA issued direct final significant new use rules (SNURS) in the Federal Register of December 20, 2012 for 9 chemical substances which were the subject of premanufacture notices (PMNs). For the chemical substance identified generically as aromatic sulfonic acid amino azo dye salts (PMN P-12-276) a typographical error has been identified. This document is being issued to correct the typographical error.

DATES: This final rule is effective March 27, 2013.

ADDRESSES: The docket for this action, identified by docket identification (ID) number EPA-HQ-OPPT-2012-0842, is available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

The Agency included in the final rule a list of those who may be potentially affected by this action.

II. What does this technical amendment do?

When promulgating the significant new uses for aromatic sulfonic acid amino azo dye salts, EPA inadvertently listed the respirator as M100 in the workplace protective equipment requirements for § 721.63. EPA did not intend to include this requirement when promulgating the significant new uses for aromatic sulfonic acid amino azo dye salts; the Agency intended the respirator to be designated as N100. This technical amendment corrects that workplace protective equipment requirement for § 721.63.

The preamble for FR Doc. 2012-30695 published in the Federal Register issue of December 20, 2012 (77 FR 75390) (FRL-9372-8) is corrected as follows:

1. On page 75394, first column, line 16, correct M100 to read N100.

III. Why is this technical amendment issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical amendment final without prior proposal and opportunity for comment, because notice and comment are unnecessary. The respirator designation of M100 that is being removed was never intended to be included in the SNUR; M100 is a designation for a 3M Corporation series of respiratory face shield, not a respirator; the Agency intended it to be a National Institute for Occupational Safety and Health (NIOSH)-certified N100 respirator. The PMN submitter who brought the error to EPA's attention is familiar with the issue, and EPA is not aware of and does not expect there to be persons who would be adversely affected by the change as there are no companies making plans based on the erroneous notice and no harm resulting from replacing the erroneous requirement for a M100 respirator with that of a N100 respirator. EPA finds that this constitutes good cause under 5 U.S.C. 553(b)(3)(B).

IV. Do any of the statutory and executive order reviews apply to this action?

This technical amendment changes an erroneous respirator designation that was placed in § 721.10633(a)(2)(i) when the final rule published in the Federal Register of December 20, 2012, promulgating significant new uses of aromatic sulfonic acid amino azo dye salts. The December 20, 2012 final rule addresses these requirements for that action (see Unit IX. of the preamble to that action). This technical amendment does not otherwise amend or impose any other requirements.

As such, this technical amendment is not a “significant regulatory action” subject to review by the Office of Management and Budget (OMB) under Executive Order 12866, entitled Regulatory Planning and Review (58 FR 51735, October 4, 1993), nor does this technical amendment contain any information collections subject to OMB approval under the Paperwork Reduction Act (44 U.S.C. 3501 et seq.).

Because the Agency has made a “good cause” finding that this technical amendment is not subject to notice and comment requirements under the APA or any other statute (see Unit III. of this document), it is not subject to the regulatory flexibility provisions of the Regulatory Flexibility Act (RFA) (5 U.S.C. 601 et seq.), or to sections 202 and 205 of the Unfunded Mandates Reform Act (UMRA) (2 U.S.C. 1531 et seq.). Nor does this technical amendment significantly or uniquely affect small governments or impose a significant intergovernmental mandate, as described in sections 203 and 204 of UMRA.

This technical amendment will not have substantial direct effects on the States, on the relationship between the national government and the States, or on the distribution of power and responsibilities among the various levels of government, as specified in Executive Order 13132, entitled Federalism (64 FR 43255, August 10, 1999), nor will this technical amendment have any “tribal implications ” as described in Executive Order 13175, entitled Consultation and Coordination with Indian Tribal Governments (65 FR 67249, November 9, 2000).

This technical amendment does not require any special considerations, OMB review, or any Agency action under Executive Order 13045, entitled Protection of Children from Environmental Health Risks and Safety Risks (62 FR 19885, April 23, 1997). Nor will this technical amendment have any affect on energy supply, distribution or use as described in Executive Order 13211, Actions Concerning Regulations That Significantly Affect Energy Supply, Distribution, or Use (66 FR 28355, May 22, 2001).

This technical amendment does not involve any technical standards that would require Agency consideration of voluntary consensus standards pursuant to section 12(d) of the National Technology Transfer and Advancement Act (NTTAA) (15 U.S.C. 272 note). The technical amendment also does not involve special consideration of environmental justice related issues under Executive Order 12898, entitled Federal Actions to Address Environmental Justice in Minority Populations and Low-Income Populations (55 FR 7629, February 16, 1994).

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: March 20, 2013.
Maria J. Doa,
Director, Chemical Control Division, Office of Pollution Prevention and Toxics.

Therefore, 40 CFR part 721 is corrected as follows:

PART 721—[AMENDED]

1. The authority citation for part 721 continues to read as follows:

Authority: 15 U.S.C. 2604, 2607, and 2625(c).

2. In § 721.10633, revise paragraph (a)(2)(i) to read as follows:

§ 721.10633 Aromatic sulfonic acid amino azo dye salts (generic).

(a) * * *

(2) * * *

(i) Protection in the workplace. Requirements as specified in § 721.63(a)(4) (National Institute for Occupational Safety and Health (NIOSH)-certified N100 respirator with an assigned protection factor of at least 10), (a)(6), (b) (concentration set at 0.1 percent), and (c).

* * * * *

[FR Doc. 2013-07083 Filed 3-26-13; 8:45 am]

BILLING CODE 6560-50-P